FEDERAL COMMUNICATIONS COMMISSION

[OMB 3060-XXXX]

Information Collection Being Submitted to the Office of Management and Budget for Emergency Review and Approval

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The Commission may not conduct or sponsor a collection of information unless it displays a currently valid control number. No person shall be subject to any penalty for failing to comply with a collection of information subject to the PRA that does not display a valid Office of Management and Budget (OMB) control number.

DATES: Written PRA comments should be submitted on or before September 6, 2019.

ADDRESSES: Direct all PRA comments to Nicholas A. Fraser, OMB, via email Nicholas_A._Fraser@omb.eop.gov; and to Nicole Ongele, FCC, via email PRA@fcc.gov and to Nicole.ongele@fcc.gov. Include in the comments the Title as shown in the “Supplementary Information” section below.

FOR FURTHER INFORMATION CONTACT: For additional information about the information collection, contact Nicole Ongele, (202) 418-2991.

SUPPLEMENTARY INFORMATION: The Commission is requesting emergency OMB processing of the information collection requirement(s) contained in this notice and has requested OMB approval no later than 35 days after the collection is received at OMB. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of Commission ICRs currently under review appears, look for the Title of this ICR and then click on the ICR Reference Number. A copy of the FCC submission to OMB will be displayed.

OMB Control Number: 3060-XXXX.

Title: Application to Participate in a Toll Free Number Auction, FCC Form 833.

Form Number: FCC Form 833.

Type of Review: New information collection.

Respondents: Business or other for-profit entities, Individuals or households, Not-for-profit institutions, Federal Government, State, Local or Tribal Governments.

Number of Respondents and Responses: 200 respondents; 200 responses.

Estimated Time per Response: 1.5 hours.

Frequency of Response: On occasion reporting requirement.

Obligation to Respond: Required to obtain or retain benefits. Statutory authority for this collection is contained in sections 1, 4(i), 201(b) and 251(e)(1) of the Communications Act of 1934, as amended, 47 U.S.C. 151, 154(i), 201(b), 251(e)(1).

Total Annual Burden: 300 hours.

Total Annual Cost: $0.

Privacy Impact Assessment: The Commission is preparing to conduct a Privacy Impact Assessment.

Nature and Extent of Confidentiality: Information collected on FCC Form 833 is made available for public inspection, and the Commission is not requesting that respondents submit confidential information as part of the pre-auction application process. For individuals, the Privacy Act, 5 U.S.C. 552(a), is the statutory authority for confidentiality and applies to this information collection. To the extent the information submitted pursuant to this information collection is determined to be confidential, it will be protected by the Commission. If a respondent seeks to have certain information collected on FCC Form 833 withheld from public inspection, the respondent may request confidential treatment of such information pursuant to section 0.459 of the Commission's rules. See 47 CFR 0.459.

Needs and Uses: The Commission's rules and related requirements are designed to ensure that the competitive bidding process for assigning toll free numbers is limited to qualified applicants, deter possible abuse of the bidding process, and enhance the use of competitive bidding to assign toll free numbers in furtherance of the public interest. Applicants will use FCC Form 833 to submit the required disclosures and certifications, and the information collected on FCC Form 833 will then be reviewed to determine if an applicant is qualified to bid in the 833 code toll free number auction (833 Auction). The 833 Auction will not be able to occur without the collection of information on FCC Form 833. Without the information collected on FCC Form 833, a determination of whether the applicant is qualified to bid in the 833 Auction cannot be made.

Federal Communications Commission.
Marlene Dortch,
Secretary, Office of the Secretary.

[FR Doc. 2019-16895 Filed 8-6-19; 8:45 am]

BILLING CODE 6712-01-P